DEPARTMENT OF HEALTH AND HUMAN SERVICES

Centers for Disease Control and Prevention

[60Day-06-0278]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Hospital Ambulatory Medical Care Survey (NHAMCS) 2007-2008 [OMB No. 0920-0278)—Extension—National Center for Health Statistics (NCHS), Centers for Disease Control and Prevention (CDC).

Background and Brief Description

The National Hospital Ambulatory Medical Care Survey (NHAMCS) has been conducted annually since 1992. The purpose of NHAMCS is to meet the needs and demands for statistical information about the provision of ambulatory medical care services in the United States. Ambulatory services are rendered in a wide variety of settings, including physicians' offices and hospital outpatient and emergency departments. The target universe of the NHAMCS is in-person visits made to outpatient departments (OPDs) and emergency departments (EDs) of non-Federal, short-stay hospitals (hospitals with an average length of stay of less than 30 days) or those whose specialty is general (medical or surgical) or children's general.

NHAMCS was initiated to complement the National Ambulatory Medical Care Survey (NAMCS, OMB No. 0920-0234) which provides similar data concerning patient visits to physicians' offices. NAMCS and NHAMCS are the principal sources of data on approximately 90 percent of ambulatory care provided in the United States.

NHAMCS provides a range of baseline data on the characteristics of the users and providers of ambulatory medical care. Data collected include patients' demographic characteristics, reason(s) for visit, physicians' diagnosis(es), diagnostic services, medications, and disposition. These data, together with trend data, may be used to monitor the effects of change in the health care system, for the planning of health services, improving medical education, determining health care work force needs, and assessing the health status of the population. In addition, a Cervical Cancer Screening Supplement (CCSS) will be added to collect information on cervical cancer screening practices from hospital OPD clinics. It will allow the CDC/National Center for Chronic Disease Prevention and Health Promotion (NCCDPHP) to evaluate cervical cancer screening methods and the use of HPV tests.

Users of NHAMCS data include, but are not limited to, congressional offices, Federal agencies, state and local governments, schools of public health, colleges and universities, private industry, nonprofit foundations, professional associations, clinicians, researchers, administrators, and health planners. NCHS is seeking OMB approval to extend this survey for an additional three years. There are no costs to the respondents other than their time.

Estimated Annualized Burden Table
Respondents | Number of respondents | Number of responses/respondent | Average burden/response (in hours) | Total burden (in hours)
Hospital induction | 490 | 1 | 55/60 | 449
ED induction | 400 | 1 | 1 | 400
OPD induction | 250 | 4 | 1 | 1,000
ED Patient record form | 400 | 100 | 5/60 | 3,333
OPD Patient record form | 250 | 200 | 5/60 | 4,167
CCSS | 250 | 1 | 15/60 | 63
Total |  |  |  | 9,412

Dated: January 5, 2006.
Joan F. Karr,
Acting Reports Clearance Officer, Centers for Disease Control and Prevention.

[FR Doc. E6-210 Filed 1-11-06; 8:45 am]

BILLING CODE 4163-18-P